DEPARTMENT OF ENERGY

Federal Energy Regulatory Commission

Notice of Settlement Agreement, Applications and Applicant-Prepared EAS Accepted for Filing, Soliciting Motions To Intervene and Protests, and Soliciting Comments, and Final Recommendations, Terms and Conditions, and Prescriptions

December 9, 2004.

Take notice that the following hydroelectric applications and applicant-prepared environmental assessments and settlement agreement have been filed with the Commission and are available for public inspection.

a. Type of Applications: New major license and settlement agreement.

b. Project Nos.: 2071-013; 2111-018; 2213-011; and 935-053.

c. Dates Filed: May 5, 1999 (2071-013); April 28, 2004 (other projects); and December 2 and 3, 2004 (settlement agreement).

d. Applicants: PacifiCorp (Project Nos. 2071, 2111, & 935) and Public Utility District No. 1 of Cowlitz County (Project No. 2213).

e. Name of Projects: Yale Hydroelectric Project (2071); Swift No. 1 Hydroelectric Project (2111); Swift No. 2 Hydroelectric Project (2213); and Merwin Hydroelectric Project (935).

f. Location: On the North Fork Lewis River, in Cowlitz, Clark, and Skamania County Washington. The Yale and Merwin Projects occupy 84 and 142.15 acres, respectively, of Federal land administered by the Bureau of Land Management. The Swift No. 1 Project occupies 63.25 acres of Federal land administered by the Bureau of Land Management and 229.00 acres of Federal lands administered by the U.S. Forest Service. The Swift No. 2 Project occupies 3.79 acres of Federal land owned by the U.S. Forest Service.

g. Filed Pursuant to: Federal Power Act 16 U.S.C. 791 (a)-825(r) and Rule 602 of the Commission's Rules of Practice and Procedure, 18 CFR 385.602.

h. Applicant Contacts: Yale, Swift No. 1, and Merwin Projects: Frank C. Shrier, Lead Project Manager, Hydro Licensing, PacifiCorp 825 NE. Multnomah Street, Suite 1500, Portland, Oregon 97232; Telephone (503) 813-6622. Swift No. 2 Project: Diana MacDonald, Public Utility District No. 1 of Cowlitz County P.O. Box 3007, 961 12th Avenue Longview, Washington 98632; Telephone (360) 577-7585; e-mail—dmacdonald@cowlitzpud.org.

i. FERC Contact: Jon Cofrancesco at (202) 502-8951; or e-mail at jon.cofrancesco@ferc.gov.

j. Deadline for filing comments on the settlement and motions to intervene, protests, comments, and final recommendations, terms and conditions, and prescriptions on the relicensing proceeding is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervener files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. These applications have been accepted for filing.

l. The Project Descriptions:

The Yale Project consists of: (1) A 1,500-foot-long embankment dam known as Yale Dam, and an adjacent 1, 600-foot-long, earth-fill structure known as Saddle Dam; (2) a 10.5-mile-long reservoir with a surface area of 3,800 acres; (3) a concrete, chute-type spillway; (4) a 1,530-foot-long diversion tunnel; (5) two penstocks; (6) a powerhouse located downstream of Yale Dam, containing two generating units with a combined capacity of 134 megawatts (MW); (7) a 11.5-mile-long, 115-kilovolt transmission line; and (8) appurtenant facilities.

The Swift No. 1 Project consists of: (1) A 2,100-foot-long earth fill dam; (2) a reservoir with a surface area of 4,680 acres at the normal maximum operating elevation (1,000 feet mean sea level); (3) a 3,000-foot-long diversion tunnel; (4) an intake structure; (5) three individual penstocks; (6) a surge tank; (7) a powerhouse, containing three 80-MW, generating units, having a total installed capacity of 240 MW; (8) a 1,800-foot-long, gated spillway and discharge channel; and (9) appurtenant facilities.

The Swift No. 2 Project consists of: (1) A 3.2-mile-long power canal consisting of both concrete and earth embankment sections and having a surface area of 53 acres; (2) a 1,100-foot-long concrete lined forebay; (3) an 82-foot-long check structure; (4) a 537 foot-long side channel spillway/wasteway, (5) a 90 foot-high intake structure with two vertical gates: (6) two 250-foot-long steel lined penstocks; (7) a powerhouse, containing two 35-MW generating units, having a total installed capacity of 70 MW; (8) a 0.9-mile-long, 230-kilovolt transmission line; and (9) appurtenant facilities.

The Merwin Project consists of: (1) A 728-foot-long concrete radius arch dam; (2) a reservoir with a surface area of 4,040 acres at the normal maximum operating level (239.6 feet mean sea level); (3) a 1,462-foot-long diversion tunnel; (4) an intake structure; (5) three 150-foot-long penstocks; (6) a powerhouse, containing three 45-MW and one 1-MW generating units, having a total installed capacity of 136 MW; (8) a gated spillway; and (9) appurtenant facilities.

m. PacifiCorp and Public Utility District No. 1 of Cowlitz County each filed identical settlement agreements on December 2 and 3, 2004, respectively, on behalf of themselves, and twenty parties to resolve, among the signatories, issues related to the pending applications for new major licenses for the Yale, Swift No. 1, Swift No. 2, and Merwin Hydroelectric Projects. The settlement includes measures for fish passage, instream flow, fish hatcheries, aquatic habitat, wildlife habitat, recreation, cultural resources, flood management, socioeconomics, monitoring and evaluation, and coordination among the parties. The parties request the Commission accept the relevant provisions of the settlement agreement in its license orders without material modification.

n. Copies of the applications and settlement are available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. Copies are also available for inspection and reproduction at the addresses in item h above.

o. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

Magalie R. Salas,
Secretary.

[FR Doc. E4-3653 Filed 12-14-04; 8:45 am]

BILLING CODE 6717-01-P